DEPARTMENT OF EDUCATION

[Docket No.: ED-2017-ICCD-0149]

Agency Information Collection Activities; Comment Request; Survey on the Use of Funds Under Title II, Part A: Supporting Effective Instruction Grants—Subgrants to LEAs

AGENCY: Office of Elementary and Secondary Education (OESE), Department of Education (ED).

ACTION: Notice.

SUMMARY: In accordance with the Paperwork Reduction Act of 1995, ED is proposing a reinstatement of a previously approved information collection.

DATES: Interested persons are invited to submit comments on or before February 2, 2018.

ADDRESSES: To access and review all the documents related to the information collection listed in this notice, please use http://www.regulations.gov by searching the Docket ID number ED-2017-ICCD-0149. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 216-44, Washington, DC 20202-4537.

FOR FURTHER INFORMATION CONTACT: For specific questions related to collection activities, please contact Tawanda Avery, 202-453-6471.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Survey on the Use of Funds Under Title II, Part A: Supporting Effective Instruction Grants—Subgrants to LEAs.

OMB Control Number: 1810-0618.

Type of Review: A reinstatement of a previously approved information collection.

Respondents/Affected Public: State, Local, and Tribal Governments.

Total Estimated Number of Annual Responses: 6,050.

Total Estimated Number of Annual Burden Hours: 36,300.

Abstract: The Elementary and Secondary Education Act of 1965, as reauthorized by the Every Student Succeeds Act of 2015 (ESSA), provides funds to States to prepare, train, and recruit high-quality teachers, principals, and other school leaders. These funds are provided to districts through Title II, Part A (Supporting Effective Instruction Grants). The purpose of these surveys is to provide the U.S. Department of Education with a better understanding of how local educational agencies (LEAs) utilize these funds. This survey also collects data on teacher salaries funded by Title II, Part A, and professional development provided by LEAs to their teachers.

Similar data have been collected under the Survey on the Use of Funds Under Title II, Part A prior to reauthorization of ESEA. This OMB clearance request is to continue these types of analyses, but using new data collection instruments updated to reflect changes due to the reauthorization of ESEA by the ESSA. The request is to begin data collection and analyses for the 2017-18 school year and subsequent years.

Dated: November 28, 2017.
Tomakie Washington,
Acting Director, Information Collection Clearance Division, Office of the Chief Privacy Officer, Office of Management.

[FR Doc. 2017-25970 Filed 12-1-17; 8:45 am]

BILLING CODE 4000-01-P